INTERNATIONAL TRADE COMMISSION

[USITC SE-22-053]

Sunshine Act Meetings

Agency Holding the Meeting: United States International Trade Commission.

TIME AND DATE: December 8, 2022 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 731-TA-1575 and 1577 (Final)(Emulsion Styrene-Butadiene Rubber from Czechia and Russia). The Commission currently is scheduled to complete and file its determinations and views of the Commission on December 27, 2022.

5. Outstanding action jackets: none.

CONTACT PERSON FOR MORE INFORMATION: Tyrell Burch, Management Analyst, 202-205-2595.

The Commission is holding the meeting under the Government in the Sunshine Act, 5 U.S.C. 552(b). In accordance with Commission policy, subject matter listed above, not disposed of at the scheduled meeting, may be carried over to the agenda of the following meeting.

By order of the Commission:
Issued: December 1, 2022.
Katherine Hiner,
Acting Secretary to the Commission.

[FR Doc. 2022-26520 Filed 12-1-22; 4:15 pm]

BILLING CODE 7020-02-P